DEPARTMENT OF HOMELAND SECURITY

Federal Emergency Management Agency

[Docket ID FEMA-2013-0002]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Baldwin (FEMA Docket No.: B-1314) | City of Gulf Shores (12-04-4631P) | The Honorable Robert S. Craft, Mayor, City of Gulf Shores, P.O. Box 299, Gulf Shores, AL 36547 | Community Development Department, 1905 West 1st Street, Gulf Shores, AL 36547 | June 17, 2013 | 015005
Houston (FEMA Docket No.: B-1320) | City of Dothan (13-04-1756P) | The Honorable Mike Schmitz, Mayor, City of Dothan, P.O. Box 2128, Dothan, AL 36302 | Engineering Department, 126 North St. Andrews Street, Dothan, AL 36303 | July 8, 2013 | 010104
Arizona:
Maricopa (FEMA Docket No.: B-1314) | City of Phoenix (12-09-2591P) | The Honorable Greg Stanton, Mayor, City of Phoenix, 200 West Washington Street, 11th Floor, Phoenix, AZ 85003 | Street Transportation Department, 200 West Washington Street, 5th Floor, Phoenix, AZ 85003 | June 14, 2013 | 040051
Yuma (FEMA Docket No.: B-1314) | Unincorporated areas of Yuma County (13-09-0814P) | The Honorable Gregory S. Ferguson, Chairman, Yuma County Board of Supervisors, 198 South Main Street, Yuma, AZ 85364 | Yuma County Department of Development Services, 2351 West 26th Street, Yuma, AZ 85364 | June 14, 2013 | 040099
California:
Sacramento (FEMA Docket No.: B-1314) | City of Elk Grove (12-09-0565P) | The Honorable Gary Davis, Mayor, City of Elk Grove, 8401 Laguna Palms Way, Elk Grove, CA 95758 | Department of Public Works, 8401 Laguna Palms Way, Elk Grove, CA 95758 | June 21, 2013 | 060767
Sacramento (FEMA Docket No.: B-1320) | City of Elk Grove (13-09-0772P) | The Honorable Gary Davis, Mayor, City of Elk Grove, 8401 Laguna Palms Way, Elk Grove, CA 95758 | Department of Public Works, 8401 Laguna Palms Way, Elk Grove, CA 95758 | July 8, 2013 | 060767
San Joaquin (FEMA Docket No.: B-1314) | Unincorporated areas of San Joaquin County (12-09-2566P) | The Honorable Ken Vogel, Chairman, San Joaquin County Board of Supervisors, 44 North San Joaquin Street, 6th Floor, Stockton, CA 95202 | San Joaquin County Public Works Department, 1810 East Hazelton Avenue, Stockton, CA 95205 | June 28, 2013 | 060299
Colorado:
Adams (FEMA Docket No.: B-1308) | City of Commerce City (13-08-0283P) | The Honorable Sean Ford, Sr., Mayor, City of Commerce City, 7887 East 60th Avenue, Commerce City, CO 80022 | Municipal Services Center, 8602 Rosemary Street, Commerce City, CO 80022 | June 5, 2013 | 080006
Adams (FEMA Docket No.: B-1308) | Unincorporated areas of Adams County (13-08-0283P) | The Honorable Eva J. Henry, Chair, Adams County Board of Commissioners, 4430 South Adams County Parkway, Suite C5000A, Brighton, CO 80601 | Adams County Public Works Department, 4430 South Adams County Parkway, Suite W2123, Brighton, CO 80601 | June 5, 2013 | 080001
Arapahoe (FEMA Docket No.: B-1320) | City of Centennial (13-08-0282P) | The Honorable Cathy Noon, Mayor, City of Centennial, 13133 East Arapahoe Road, Centennial, CO 80112 | Southeast Metro Stormwater Authority, 76 Inverness Drive East, Suite A, Englewood, CO 80112 | June 28, 2013 | 080315
Boulder (FEMA Docket No.: B-1314) | City of Boulder (12-08-0778P) | The Honorable Matthew Appelbaum, Mayor, City of Boulder, P.O. Box 791, Boulder, CO 80306 | Municipal Building Plaza, 1777 Broadway Street, Boulder, CO 80302 | June 17, 2013 | 080024
Jefferson (FEMA Docket No.: B-1314) | Unincorporated areas of Jefferson County (12-08-0863P) | The Honorable Donald Rosier, Chairman, Jefferson County Board of Commissioners, 100 Jefferson County Parkway, Golden, CO 80419 | Jefferson County Department of Planning and Zoning, 100 Jefferson County Parkway, Golden, CO 80419 | June 28, 2013 | 080087
Routt (FEMA Docket No.: B-1320) | City of Steamboat Springs (13-08-0214P) | The Honorable Deb Hinsvark, Manager, City of Steamboat Springs, P.O. Box 775088, Steamboat Springs, CO 80477 | Centennial Hall, 124 10th Street, Steamboat Springs, CO 80477 | July 8, 2013 | 080159
Florida:
Collier (FEMA Docket No.: B-1314) | City of Naples (12-04-7151P) | The Honorable John F. Sorey, III, Mayor, City of Naples, 735 8th Street South, Naples, FL 34102 | City Hall, 735 8th Street South, Naples, FL 34102 | June 17, 2013 | 125130
Collier (FEMA Docket No.: B-1320) | City of Naples (13-04-1286P) | The Honorable John F. Sorey, III, Mayor, City of Naples, 735 8th Street South, Naples, FL 34102 | City Hall, 735 8th Street South, Naples, FL 34102 | June 24, 2013 | 125130
Duval (FEMA Docket No.: B-1320) | City of Jacksonville (12-04-6121P) | The Honorable Alvin Brown, Mayor, City of Jacksonville, 117 West Duval Street, Suite 400, Jacksonville, FL 32202 | Development Services Division, 214 North Hogan Street, Suite 2100, Jacksonville, FL 32202 | July 8, 2013 | 120077
Escambia (FEMA Docket No.: B-1314) | Unincorporated areas of Escambia County (12-04-8486P) | The Honorable Gene M. Valentino, Chairman, Escambia County Board of Commissioners, 221 Palafox Place, Suite 400, Pensacola, FL 32502 | Escambia County Department of Planning and Zoning, 1190 West Leonard Street, Pensacola, FL 32501 | June 21, 2013 | 120080
Miami-Dade (FEMA Docket No.: B-1320) | City of Sunny Isles Beach (12-04-8176P) | The Honorable Norman S. Edelcup, Mayor, City of Sunny Isles Beach, 18070 Collins Avenue, Suite 250, Sunny Isles Beach, FL 33160 | Sunny Isles Beach Government Center, 18070 Collins Avenue, Sunny Isles Beach, FL 33160 | June 28, 2013 | 120688
Orange (FEMA Docket No.: B-1320) | City of Orlando (12-04-7200P) | The Honorable Buddy Dyer, Mayor, City of Orlando, P.O. Box 4990, Orlando, FL 32808 | Permitting Services Department, 400 South Orange Avenue, Orlando, FL 32801 | July 5, 2013 | 120186
Orange (FEMA Docket No.: B-1320) | Unincorporated areas of Orange County (12-04-7200P) | The Honorable Teresa Jacobs, Mayor, Orange County, 201 South Rosalind Avenue, 5th Floor, Orlando, FL 32801 | Orange County Stormwater Management Division, 4200 South John Young Parkway, Orlando, FL 32839 | July 5, 2013 | 120179
Hawaii: Maui (FEMA Docket No.: B-1320) | Unincorporated areas of Maui County (12-09-2563P) | The Honorable Alan M. Arakawa, Mayor, Maui County, 200 South High Street, 9th Floor, Wailuku, HI 96793 | Maui County Planning Department, 250 South High Street, 2nd Floor, Wailuku, HI 96793 | July 8, 2013 | 150003
Kentucky:
Hardin (FEMA Docket No.: B-1320) | City of Elizabethtown (12-04-3244P) | The Honorable Tim C. Walker, Mayor, City of Elizabethtown, P.O. Box 550, Elizabethtown, KY 42701 | City Hall, 200 West Dixie Avenue, 2nd Floor, Elizabethtown, KY 42701 | June 7, 2013 | 210095
Hardin (FEMA Docket No.: B-1320) | Unincorporated areas of Hardin County (12-04-3244P) | The Honorable Judge Harry L. Berry, Hardin County Judge/Executive, P.O. Box 568, Elizabethtown, KY 42701 | R. R. Thomas Building, 14 Public Square, Room 206, Elizabethtown, KY 42701 | June 7, 2013 | 210094
North Carolina: Union (FEMA Docket No.: B-1314) | Unincorporated areas of Union County (12-04-5213P) | The Honorable Cynthia Coto, Union County Manager, 500 North Main Street, Room 918, Monroe, NC 28112 | Union County Planning Department, 407 North Main Street, Room 149, Monroe, NC 28112 | June 12, 2013 | 370234
South Carolina:
Charleston (FEMA Docket No.: B-1314) | City of North Charleston (13-04-1047P) | The Honorable R. Keith Summey, Mayor, City of North Charleston, P.O. Box 190016, North Charleston, SC 29419 | Building Inspections Department, 2500 City Hall Lane, North Charleston, SC 29406 | June 14, 2013 | 450042
Greenwood (FEMA Docket No.: B-1314) | Unincorporated areas of Greenwood County (12-04-3813P) | The Honorable Mark Allison, Chairman, Greenwood County Council, 600 Monument Street, Suite 102, Greenwood, SC 29646 | Greenwood County Courthouse, 600 Monument Street, Greenwood, SC 29646 | June 28, 2013 | 450094
Horry (FEMA Docket No.: B-1314) | City of Myrtle Beach (13-04-1594P) | The Honorable John T. Rhodes, Mayor, City of Myrtle Beach, P.O. Box 2468, Myrtle Beach, SC 29578 | City Services Building, Construction Services Department, 921 Oak Street, Myrtle Beach, SC 29577 | June 21, 2013 | 450109
Utah:
Salt Lake (FEMA Docket No.: B-1320) | City of Cottonwood Heights (12-08-0817P) | The Honorable Kelvyn Cullimore, Jr., Mayor, City of Cottonwood Heights, 1265 East Fort Union Boulevard, Cottonwood Heights, UT 84047 | City Hall, 1265 East Fort Union Boulevard, Cottonwood Heights, UT 84047 | July 8, 2013 | 490028
Salt Lake (FEMA Docket No.: B-1320) | City of Midvale (12-08-0817P) | The Honorable JoAnn B. Seghini, Mayor, City of Midvale, 655 West Center Street, Midvale, UT 84047 | Engineering Department, 655 West Center Street, Midvale, UT 84047 | July 8, 2013 | 490211
Summit (FEMA Docket No.: B-1314) | City of Park City (12-08-1031P) | The Honorable Dana Williams, Mayor, City of Park City, P.O. Box 1480, Park City, UT 84060 | City Hall, 445 Marsac Avenue, Park City, UT 84060 | June 13, 2013 | 490139
Wyoming:
Washakie (FEMA Docket No.: B-1320) | City of Worland (12-08-0535P) | The Honorable Dave Duffy, Mayor, City of Worland, P.O. Box 226, Worland, WY 82401 | Building and Zoning Department, 829 Big Horn Avenue, Worland, WY 82401 | July 1, 2013 | 560056
Washakie (FEMA Docket No.: B-1320) | Unincorporated areas of Washakie County (12-08-0535P) | The Honorable Aaron Anderson, Chairman, Washakie County Board of Commissioners, P.O. Box 260, Worland, WY 82401 | Washakie County Emergency Management Agency, 1001 Big Horn Avenue, Worland, WY 82401 | July 1, 2013 | 560089

(Catalog of Federal Domestic Assistance No. 97.022, “Flood Insurance.”)

Dated: August 12, 2013.
Roy Wright,
Deputy Associate Administrator for Mitigation, Department of Homeland Security, Federal Emergency Management Agency.

[FR Doc. 2013-20827 Filed 8-26-13; 8:45 am]

BILLING CODE 9110-12-P